SECURITIES AND EXCHANGE COMMISSION

[Release No. 34-51742; File No. SR-NASD-2005-030]

Self-Regulatory Organizations; National Association of Securities Dealers, Inc.; Notice of Filing of Proposed Rule Change and Amendment No. 1 Thereto Relating to Proposed Uniform Branch Office Registration Form (“Form BR”) and Amendments to the Uniform Application for Securities Industry Registration or Transfer (“Form U4 ”) and the Uniform Termination Notice for Securities Industry Registration (“Form U5”)

Correction

In notice document E5-2810 beginning on page 32386 in the issue of Thursday, June 2, 2005 make the following correction:

On page 32387, in the first column, in the footnotes, the first paragraph of footnote 3 should read: “³Currently, broker-dealers register or report branch offices or other business locations on Schedule E of the Form BD. NYSE member firms are required to submit the NYSE Branch Office Application to register a branch office with the NYSE. In addition, Connecticut, Florida, Nevada and Vermont have separate branch office forms that request similar information for firms seeking to register a branch office in those states; moreover, more than 20 states require broker-dealers to submit a “notice filing” when a firm opens or closes a branch office.”.

[FR Doc. Z5-2810 Filed 8-18-05; 8:45 am]

BILLING CODE 1505-01-D